DEPARTMENT OF ENERGY

Federal Energy Regulatory Commission

[Docket No. RM01-8-006]

Revised Public Utility Filing Requirements for Electric Quarterly Reports

September 24, 2007.

AGENCY: Federal Energy Regulatory Commission, DOE.

ACTION: Order Adopting Electric Quarterly Report Data Dictionary.

SUMMARY: The Federal Energy Regulatory Commission is adopting an Electric Quarterly Report (EQR) Data Dictionary that collects in one document the definitions of certain terms and values used in filing EQR data, in conformance with Commission Order No. 2001, which established revised public utility filing requirements.

DATES: Effective Date: This order will become effective October 4, 2007.

FOR FURTHER INFORMATION CONTACT: Mark A. Blazejowski, Office of Enforcement, Federal Energy Regulatory Commission, 888 First Street, NE., Washington, DC 20426.

Gary D. Cohen, Office of the General Counsel, Federal Energy Regulatory Commission, 888 First Street, NE., Washington, DC 20426.

SUPPLEMENTARY INFORMATION:

Before Commissioners: Joseph T. Kelliher, Chairman; Suedeen G. Kelly, Marc Spitzer, Philip D. Moeller, and Jon Wellinghoff.

Order Adopting Electric Quarterly Report Data Dictionary

Issued September 24, 2007.

1. In this order, after consideration of the comments filed in response to our notice seeking comments,¹ we are adopting an Electric Quarterly Report (EQR) Data Dictionary that collects in one document the definitions of certain terms and values used in filing EQR data (previously provided in Commission orders and in guidance materials posted at the Commission's Web site) and are issuing formal definitions for those fields that were previously undefined.

¹ Revised Public Utility Filing Requirements for Electric Quarterly Reports, 72 FR 26091 (May 8, 2007), FERC Stats. & Regs. ¶ 35,050 (2007) (EQR Notice).

I. Background

2. On April 25, 2002, the Commission issued Order No. 2001, a final rule establishing revised public utility filing requirements.² This rule revised the Commission's filing requirements to require companies subject to the Commission's regulation under section 205 of the Federal Power Act (FPA) to file quarterly reports that: (1) Provide data identifying the utility on whose behalf the report is being filed (ID Data); (2) summarize pertinent data about the utility's currently effective contracts (Contract Data); and (3) summarize data about wholesale power sales the utility made during the reporting period (Transaction Data). The requirement to file EQRs replaced the requirement to file quarterly transaction reports summarizing a utility's market-based rate transactions and sales agreements that conformed to the utility's tariff.

² Revised Public Utility Filing Requirements, Order No. 2001, 67 FR 31043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002), Order No. 2001-D, order directing filings, 102 FERC ¶ 61,334, Order No. 2001-E, order refining filing requirements, 105 FERC ¶ 61,352 (2003), clarification order, Order No. 2001-F, 106 FERC ¶ 61,060 (2004).

3. In Order No. 2001, the Commission also adopted a new section in its regulations, 18 CFR 35.10b, which requires that the EQRs are to be prepared in conformance with the Commission's software and guidance posted and available from the Commission Web site. This obviates the need to revise section 35.10b to implement revisions to the software and guidance. Since the issuance of Order No. 2001, as need has arisen, the Commission has issued orders to resolve questions raised by EQR users and has directed Staff to issue additional guidance.³

³ Examples cited in EQR Notice at P 3.

4. Likewise, on December 23, 2003, the Commission issued Order No. 2001-E, to resolve some recurring issues faced by EQR filers, to help filers better understand the requirements of Order No. 2001, and to improve the quality and consistency of EQR data.⁴ To this end, the Commission: (1) Ordered standard formats to be used for certain location fields; (2) established an EQR Refiling Policy; and (3) streamlined and defined allowable data entries in certain data fields. The Commission instructed Staff to issue filing guidance to address these changes.⁵ This guidance was posted on the EQR page of the Commission's Web site on March 25, 2004.⁶ Commission Staff posted additional guidance on the Internet at the http://www.ferc.gov Web site, and several EQR Users Group meetings have been held to address the questions of EQR filers.

⁴ Order No. 2001-E, 105 FERC ¶ 61,352 at P 2.

⁵ Id. at P 8.

⁶ Posted at http://www.ferc.fed.us/docs-filing/eqr/com-order.asp.

5. After issuance of Order No. 2001-E, the Commission recognized that rapid change in the electric industry may require flexibility in adding or changing the entries allowed in restricted fields in the EQR. The North American Electric Reliability Corporation (NERC), for example, frequently adds and deletes balancing authorities (previously “control areas”) from its Transmission System Information Network (TSIN) rolls. In an order issued on March 25, 2004, the Commission directed Staff to alert EQR users of any future changes to allowable entries for restricted fields by e-mail, and to post these changes on the EQR page of the Commission's Web site.⁷

⁷ Revised Public Utility Filing Requirements, 106 FERC ¶ 61,281 (2004).

6. Since 2004, the Commission has performed outreach to the industry to determine which current EQR definitions are sufficient and understandable and which should be revised.⁸ The Commission has concluded that, to improve the quality of EQR filings, it would be appropriate to place in a single document the definitions of certain terms and values used in filing EQR data and to issue formal definitions for those fields that are currently undefined. Thus, the Commission issued a notice (i.e., the EQR Notice) proposing the adoption of a formal EQR Data Dictionary. The EQR Notice was published in the Federal Register and, in it, the Commission invited comment on the proposed definitions.⁹ A total of seven comments were filed in response to the EQR Notice.¹⁰

⁸ Examples cited in EQR Notice at P 6.

⁹ Notice Seeking Comments on Proposed Electric Quarterly Report Data Dictionary, 72 FR 26091 (May 8, 2007).

¹⁰ Timely comments on the EQR notice were filed by: Edison Electric Institute (EEI); Transalta Energy Marketing (U.S.) Inc. (Transalta); The Midwest Independent Transmission System Operator, Inc. (MISO); Reliant Energy, Inc. (Reliant); Occidental Power Services, Inc. (Occidental); and Powerex Corp. (Powerex). In addition, Central Vermont Public Service (CVPS) submitted late-filed comments that included a request that the Commission accept them. The Commission will consider all the comments filed in response to the EQR Notice, including the late-filed comments of CVPS.

II. Discussion

7. With one exception, the comments in response to the EQR Notice were generally supportive of the proposal for the Commission to adopt an EQR Data Dictionary; ¹¹ however, they made a number of suggestions on possible revisions to the definitions. We will now separately discuss each of these suggestions.

¹¹ The one exception is CVPS, which filed comments arguing that the EQR Data Dictionary should either (1) Not apply to small entities or (2) not be adopted. We will separately discuss this comment below.

A. Field Nos. 2, 15 and 47—Seller Company Name

8. The EQR Notice proposed defining Seller Company Name as “The name of the company that is authorized to make sales as indicated in the company's FERC tariff(s). This name may be the same as the Company Name of the Respondent.”

9. EEI suggests that the definition of Company Name for the Seller be changed to add “or its agent as specified in the tariff (if the full name is over 70 characters).” EEI explains that this change is necessary to provide flexibility when there are multiple parties to a contract, exceeding the field's 70-character limit.

Commission Conclusion

10. Only companies that are authorized to sell power under Part 35 of the Commission's regulations should make sales in the wholesale power market. The EQR is intended to report the activities of those specific companies. The Seller information is used to identify those companies.

11. The Commission is not persuaded to revise the definition proposed in the EQR Notice as suggested by EEI. We find this suggestion unnecessary, because under the definition proposed in the EQR Notice, the agent may be identified as the Seller if the company's tariff authorizes the agent to make the sales, even without the language change suggested by EEI. However, we will expand the size of the Seller Company Name field to 100 characters to allow filers to identify those contracts where more than one party is involved as seller and/or where one party is acting as agent for (or on behalf of) one or more other parties.

B. Field Nos. 16 and 48—Customer Company Name

12. The EQR Notice proposed defining Customer Company Name as “The name of the counterparty to the contract.”

13. EEI suggests the phrase “to the contract” be deleted from the proposed definition of Customer Company Name to account for multi-lateral membership agreements where no bilateral contract is necessary.

Commission Conclusion

14. The suggested change meets the Commission's goal of further clarifying the intended meaning of the field. Thus, this order adopts this suggested revision to these fields.

C. Field Nos. 19 and 50—FERC Tariff Reference

15. The EQR Notice proposed defining FERC Tariff Reference as “The FERC tariff reference cites the document that specifies the terms and conditions under which a Seller is authorized to make transmission sales or power sales at cost-based rates or at market-based rates. If the sales are market-based, the tariff that is specified in the FERC order granting the Seller Market Based Rate Authority must be listed.”

16. EEI suggests the phrase “or sales of related jurisdictional services” be added to the definition of FERC Tariff Reference to clarify that jurisdictional services other than transmission or power sales should also be reported in the EQR. In addition, EEI requests that the Commission confirm that cost-based sales made under the Western Systems Power Pool (WSPP) Agreement should cite the WSPP tariff, and market-based sales made under the WSPP Agreement should cite the Seller's market-based rate tariff.

Commission Conclusion

17. We will adopt EEI's suggestion to add the phrase “or sales of related jurisdictional services” to the definition of FERC Tariff Reference because we agree that this phrase helps clarify that jurisdictional services other than transmission or power sales should be reported in the EQR. In addition, as requested by EEI, we confirm that cost-based sales made under the WSPP Agreement should cite the WSPP tariff, and market-based sales made under the WSPP Agreement should cite the Seller's market-based rate tariff. This interpretation is consistent with the proposed definition.

D. Field Nos. 20 and 51—Contract Service Agreement ID

18. The EQR Notice proposed defining Contract Service Agreement ID as “Unique identifier given to each service agreement that can be used by the filing company to produce the agreement, if requested. The identifier may be the number assigned by FERC for those service agreements that have been filed with and accepted by the Commission, or it may be generated as part of an internal identification system.”

19. Transalta suggests a change to the proposed Contract Service Agreement ID definition so that the field need not be unique in itself but only unique when combined with the Customer Company Name (Field Nos. 16 and 48). Transalta explains that it does not assign unique identifiers to each of its service agreements. Instead, it has an identification number that may be assigned to multiple service agreements but which, when combined with the counterparty designation, allows Transalta to identify separate transactions within its system.

Commission Conclusion

20. In adopting the initial definition for this field in Order No. 2001, the Commission provided considerable latitude for this field. The company can use the number assigned by FERC to those service agreements that had previously been filed or the number could be assigned from an internal system.¹² The one requirement in the original definition was that the identifier be unique. The changes in the proposed definition were intended to clarify that the identifier may include alphabetical characters.¹³

¹² Order No. 2001, FERC Stats. & Regs. ¶ 31,127 at P 12.

¹³ EQR Notice, FERC Stats. & Regs. ¶ 35,050 at P 13.

21. The Contract Service Agreement ID serves the dual purpose of being a unique method for identifying a particular contract when it is requested and a means of tracking a contract and the activity under a contract from quarter to quarter. Adding a second free form text field to this method of identification decreases our ability to do this tracking. We will, therefore, not adopt Transalta's suggested change. Companies whose current Contract Service Agreement IDs are not compliant with this longstanding EQR requirement may consider using some type of customer identifier in their Contract Service Agreement ID to make it unique.

E. Field No. 21—Contract Execution Date

22. The EQR Notice proposed defining Contract Execution Date as “The date the contract was signed. If the parties signed on different dates, or there are contract amendments, use the most recent date signed.”

23. Both Reliant and EEI suggest that the Contact Execution Date should not change because of a minor amendment to the contract. Both commenters note that, frequently, contract amendments are minor changes such as changes in an address or payment terms that do not affect the key operational parameters of the agreement.

Commission Conclusion

24. We agree with Reliant and EEI that the usefulness of the data may be increased with a single execution date for each contract across all periods. However, if there are material amendments to the contract, then the contract execution date must be changed.

F. Field No. 23—Contract Termination Date

25. The EQR Notice proposed defining Contract Termination Date as “The date that the contract expires.”

26. Transalta expresses concern that this field requires filers to provide a Contract Termination Date even if none exists.

Commission Conclusion

27. We find Transalta's concern misplaced. As indicated in the EQR Notice, a Contract Termination Date is only required “if specified in the contract.” EQR filers, therefore, may continue leaving Field No. 23 blank for contracts without termination dates. Thus, we have not changed the proposed definition.

G. Field Nos. 26 and 58—Class Name

28. The EQR Notice proposed defining Class Name in the Contract Data section of the EQR as “F-Firm: For transmission sales, service or product that always has priority over non-firm service. For power sales, service or product that is not interruptible for economic reasons. NF-Nonfirm: For transmission sales, service that is reserved and/or scheduled on an as-available basis and is subject to curtailment or interruption at a lesser priority compared to firm service. An energy sale for which delivery or receipt of the energy may be interrupted for any reason or no reason, without liability on the part of either the buyer or seller. UP-Unit Power Sale: Designates a dedicated sale of energy and capacity from one or more than one generation unit(s). N/A-Not Applicable: To be used only when the other available Class Names do not apply.”

29. In addition, the Transaction Data section of the EQR Notice proposes to define the Class Name “BA-Billing Adjustment” (Field No. 58 only) as: “Incremental positive or negative material change to previous EQR totals.”

30. In its comments on the Class Name fields, EEI suggested some editorial changes to clarify the respective meanings of “Firm” and “Non-Firm.” EEI also recommends adding the word “specified” to clarify that the Class Name “UP-Unit Power Sale” is not intended to refer to general system firm sales.

31. Occidental suggests that the use of the Class Name “BA-Billing Adjustment” should be expanded to reflect changes that become available after a quarterly filing has been made, but before the next quarterly filing is due. Order No. 2001-E allowed the “BA” class name to be used for material changes after the next quarterly filing is due.¹⁴ Occidental cites the effort required in truing up estimated California ISO sales data received prior to the EQR filing deadline with actual sales data received after the filing deadline.

¹⁴ Order No. 2001-E, 105 FERC ¶ 61,352 at P 9.

Commission Conclusion

32. We will adopt EEI's suggested editorial changes to the terms “Firm” and “Non-Firm” and its suggestion to add the word “specified” to the Class Name “UP-Unit Power Sale” because we agree these changes add clarity.

33. As to Occidental's suggestion to expand the use of the Class Name “BA-Billing Adjustment” to include changes that become available after a quarterly filing has been made, the Commission already considered and rejected these arguments in developing the “BA” class name in Order No. 2001-E. The EQR is the Commission's primary means of fulfilling its statutory obligation to have entities' rates on file in a market where prices do not receive prior regulatory approval.¹⁵ Changes in the EQR that would affect the accuracy of the rates provided must be carefully considered.

¹⁵ Order No. 2001, FERC Stats. & Regs. ¶ 31,127 at P 44-46

34. The “BA” class name is intended to be an option allowing EQR filers to reflect material price changes long after the settled prices were considered final. Occidental's observation that RTO/ISO sales data are likely to change after the EQR filing deadline strengthens the Commission's conviction that the data must be refiled to reflect the actual rates charged and that simply reflecting these changes as a single “BA” entry is insufficient. Given our finding on this issue, we believe that it would be helpful to revise the definition of “BA-Billing Adjustment” proposed in the EQR Notice to clarify the intended nature of the “BA” class name. Thus, we have revised the definition for “BA-Billing Adjustment” in the EQR Data Dictionary that we are adopting in this order to provide this clarification.

H. Field Nos. 28 and 60—Increment Name

35. The EQR Notice proposed defining Increment Name in the Contract Data section of the EQR as “H-Hourly: Terms of the contract (if specifically noted in the contract) set for up to 6 consecutive hours (≤6 consecutive hours). D-Daily: Terms of the contract (if specifically noted in the contract) set for more than 6 and up to 36 consecutive hours (>6 and ≤36 consecutive hours). W-Weekly: Terms of the contract (if specifically noted in the contract) set for over 36 consecutive hours and up to 168 consecutive hours (>36 and ≤168 consecutive hours). M-Monthly: Terms of the contract (if specifically noted in the contract) set for more than 168 consecutive hours up to one month (>168 consecutive hours and ≤1 month). Y-Yearly: Terms of the contract (if specifically noted in the contract) set for one year or more (≤1 year). S-Seasonal: Terms of the contract (if specifically noted in the contract) set for greater than one month and less than 365 consecutive days (> 1 month and < 1 year). N/A-Not Applicable: Terms of the contract do not specify an increment.” The definitions in the Transaction Data section are the same except that they refer to the “particular sale” rather than the “contract” as a whole.

36. Reliant, EEI, Occidental, and MISO each commented on the Increment Name definitions. Reliant recommends reverting to the definitions used as the basis for discussion at the EQR Users Group meeting on November 29, 2006.¹⁶ Reliant appears to be interpreting the change from the discussion draft terminology of “one month or the balance of a month if longer than one week” to “more than 168 consecutive hours up to one month” as confusing the meaning of the definition because a peak-only sale for the course of a month would involve power flowing during no more than 16 consecutive hours.

¹⁶ See Notice of Electric Quarterly Reports Users Group Meeting, November 8, 2006. The discussion version of the data dictionary was posted on the Commission calendar (http://www.ferc.gov/EventCalendar/Files/20061117145410-Staff%20Draft%20of%20EQR%20Data%20Dictionary.xls), and a transcript of the meeting is posted online.

37. MISO, EEI, and Occidental each offer alternative numbers of hours to define the increment names. For example, EEI and Occidental suggest different numbers to differentiate “D-Daily” and “W-Weekly” and MISO, EEI and Reliant request the deletion of the proposed increment name “S-Seasonal.”

Commission Conclusion

38. The Commission finds Reliant's suggested reading of the Increment Name definition to be problematic. The definition proposed in the EQR Notice used specific numbers of hours for the terms in order to simplify the process of implementing the definition and ensure consistency in the data. These specific numbers were not intended to change the meaning of the definition.

39. The Increment Name field is intended to provide information regarding the duration of the terms agreed upon in the contract or transaction. If completed correctly, this field provides information about whether a sale at a given price for a full day was the result of a daily sale or, possibly, a monthly sale with a daily index.

40. The proposed definitions expressly refer to the “terms of the contract” (Field No. 28) and the “terms of the particular sale” (Field No. 60). The definitions do not refer to the characteristics of the sales themselves. For example, a monthly peak-only sale priced on a daily index would be designated as “M” in Field No. 60 because the quantity sold, the hours of flow, and the pricing method are set for the entire month.

41. MISO, EEI, and Occidental each comment on the numbers of hours used to define the increment names. While MISO's suggested numbers are the simplest, they do not address the purpose of the field. For example, a single-day, peak-only sale would be classified as “H—Hourly” under MISO's definition even though industry practice would commonly refer to the deal as daily. We are not persuaded to make this change.

42. EEI and Occidental suggest different numbers to differentiate “D—Daily” and “W—Weekly.” The Commission proposed a break point at 36 hours. Occidental recommends 60 hours, explaining that sales with terms lasting over a long weekend are typically designated as “D” consistent with industry practice. EEI recommends 104 hours citing, but not expounding upon, industry practice. We find Occidental's explanation compelling and adopt 60 hours as the break point between “D” and “W.”

43. MISO, EEI and Reliant request the deletion of the proposed increment name “S—Seasonal” with adjustments in the “M—Monthly” and “Y—Yearly” definitions in light of the proposed changes to the other Increment Name definitions. We find this suggestion adds clarity and, thus, we will adopt this suggested revision.

I. Field No. 29—Increment Peaking Name

44. The EQR Notice proposed defining Increment Peaking Name as “FP—Full Period: The product described may be sold during all hours under the contract. OP—Off-Peak: The product described may be sold only during those hours designated as off-peak in the NERC region of the point of delivery. P—Peak: The product described may be sold only during those hours designated as on-peak in the NERC region of the point of delivery. N/A—Not Applicable: To be used only when the increment peaking name is not specified in the contract.”

45. EEI suggests that the definition for the Increment Peaking Name “FP—Full Period” be changed to clarify that sales under a contract need not occur around the clock to qualify as Full Period.

Commission Conclusion

46. The suggested change meets the Commission's goal of clarifying the definition of the field. Thus, the Commission will adopt this suggested change.

J. Field No. 30—Product Type Name

47. The EQR Notice proposed defining Product Type Name as “CB—Cost Based: Energy or capacity sold under a FERC-approved cost-based rate tariff. MB—Market Based: Energy sold under the seller's FERC-approved market-based rate tariff. T—Transmission: The product is sold under a FERC-approved transmission tariff. Other: The product cannot be characterized by the other product type names.”

48. EEI suggests that the words “or Capacity” be added to the definition of “MB-Market-Based” to clarify that capacity may be sold under a market-based tariff.

Commission Conclusion

49. EEI makes a valid point in identifying the proposed definition of “MB” as too restrictive. Accordingly, we will adopt EEI's suggested revision to the definition.

50. Under Order No. 890, all transmission capacity reassignments must “be accomplished by the assignee executing a service agreement with the transmission provider that will govern the provision of reassigned service” and those agreements must be reported in the providers' EQRs.¹⁷ In preparing the EQR Data Dictionary, the term “Capacity Reassignment” was inadvertently included as a Product Name (Field Nos. 31 and 62, Appendix B) not a Product Type Name (Field No. 30) as described in Order 890.¹⁸ This has been corrected in the attached EQR Data Dictionary that we are adopting in this order.

¹⁷ Preventing Undue Discrimination and Preference in Transmission Service, Order No. 890, 72 FR 12266, FERC Stats. & Regs. ¶ 31,241 at P 816-817 (2007).

¹⁸ Id. at n. 499.

K. Field Nos. 31 and 62—Product Name

51. The EQR Notice proposed defining Product Name as “Description of product being offered.” See Appendix A for more specific definitions of product names.

52. Transalta requests clarification regarding whether a trade in which it sells power into an RTO/ISO's day ahead market at one point and simultaneously buys it back in the day ahead market at another point constitutes an “Exchange” as it has been defined. Because the proposed definition stipulates the return of energy “later at times, rates, and in amounts as mutually agreed,” ¹⁹ Transalta asks whether the definition applies to a simultaneous action.

¹⁹ Transalta Comments on EQR Notice at 3.

Commission Conclusion

53. It was not the Commission's intention to exclude simultaneous trades at different locations from the definition of “Exchanges.” By including the word “later,” the definition also appears to be incorrectly excluding half the exchange activity—those sales that occur on the “return” side of the transaction. To clarify and correct the definition, the word “later” has been dropped.

54. The specific example that Transalta raises, where the counterparty is an ISO, is a special case. In Order No. 2001, the Commission exempted ISOs from transactional reporting where title does not pass to the ISO.²⁰ Further, several ISOs (New York Independent System Operator, Inc. (NYISO), MISO, and ISO New England, Inc. (ISO-NE) have created systems that provide their members' data files in an EQR compatible format. Identifying specific sales as exchanges in those files that match with simultaneous trades may be problematic and unnecessarily delay implementation of the data dictionary. Therefore, the definition of “Exchange” has been changed to exclude organized markets; EQR filers will continue to be allowed to report sales in organized markets as the product settled. Thus, the EQR Data Dictionary that we are adopting in this order (in Appendix A—“Product Names”) defines an “Exchange” as a “Transaction whereby the receiver accepts delivery of energy for a supplier's account and returns energy at times, rates, and in amounts as mutually agreed if the receiver is not an RTO/ISO.”

²⁰ Order No. 2001, FERC Stats. & Regs. ¶ 31,127 at P 335.

55. The change in the definition should not be interpreted as excluding activities in Real-Time markets that offset sales in Day-Ahead markets. These trades will continue to be considered the organized markets' equivalent to bookouts and should be reported using the conventions adopted to ease the reporting process.²¹

²¹ A description of these conventions may be found in the EQR section of the Commission's Web site at Day Ahead/Real Time Reporting in the EQR (http://www.ferc.gov/docs-filing/eqr/news-help/real-time.pdf).

L. Field No. 37—Rate Description

56. The EQR Notice proposed defining Rate Description as “Text description of rate. May reference FERC tariff, or, if a discounted or negotiated rate, include algorithm.”

57. EEI requests that filers be allowed to enter the tariff location into the rate description field in lieu of a detailed description of the rate itself. EEI cites the difficulty of putting complex rates into the 150-character field.

Commission Conclusion

58. The EQR fulfills the Commission's statutory obligation under the FPA to have companies' rates on file. The Commission relies on the EQR to satisfy the FPA requirement that rates provided in a contract be publicly disclosed and on file. Thus, it is imperative that the information reported in EQRs provide an adequate level of detail and transparency.

59. A tariff reference alone, instead of the actual rate description, does not meet that standard. Allowing filers to substitute a tariff reference in place of an actual rate description would force EQR users seeking this information to conduct further research to track down the contents of the tariff on file. This is clearly less transparent than a rate description that actually describes the rate.

60. If the tariff reference is coupled with a descriptive summary of the rate, where the rate is the function of a complex algorithm, the standard is met. Rate information will continue to be available to the public at a level sufficient to explain the bases and methods of calculation with additional detail available upon request to interested persons. Thus, the EQR Data Dictionary that we are adopting in this order defines “Rate Description” as “Text description of rate. Include algorithm if rate is calculated. If the algorithm would exceed the 150 character field limit, it may be provided in a descriptive summary (including bases and methods of calculations) with a detailed citation of the relevant FERC tariff including page number and section.”

M. Field No. 39—Point of Receipt Balancing Authority (PORBA) and Field Nos. 41 and 56—Point of Delivery Balancing Authority (PODBA)

61. The EQR Notice proposed defining Point of Receipt Balancing Authority (PORBA) as “The registered NERC Balancing Authority (formerly called NERC Control Area) abbreviation used in OASIS applications or `Hub' if point of receipt is at a restricted trading hub.” The EQR Notice proposed defining Point of Delivery Balancing Authority (PODBA) as “The registered NERC Balancing Authority (formerly called NERC Control Area) abbreviation used in OASIS applications or 'Hub' if point of receipt is at a restricted trading hub.”

62. Powerex notes that when it sends power sourced in the United States to British Columbia for use by British Columbia Hydro and Power Authority (BC Hydro), the PODBA is British Columbia Transmission Corporation (BCTC). BCTC is not included as an option for the fields in the EQR. Powerex suggests that BCTC was inadvertently omitted as a Balancing Authority and asks the Commission to clarify the steps filers should take if the field cannot be completed because the correct value is not available.

Commission Conclusion

63. We agree with Powerex that the EQR does not currently include the BCTC balancing authority. While, as explained below, this balancing authority would only be used in a narrow set of instances, we will modify the dictionary to include BCTC as well as other balancing authorities located outside the United States.

64. For purposes of EQR reporting, we can categorize sales from the United States heading towards Canada into three categories: (1) Sales originating in the United States that are delivered in the United States; (2) sales originating in the United States where title changes on the United States' side of the United States-Canada border; and (3) sales originating in the United States where title changes in Canada. In the first instance, the sale is reported in the EQR with the PODBA being a balancing authority within the United States.²² In the second instance, the sale is reported in the EQR with a PODBA on the United States' side of the United States-Canada border. In the third instance, the sale, which is not jurisdictional, would not be reported in the EQR.

²² The PORBA, if specified, would be reported in the EQR's Contract Data section and not in Transaction Data. If a contract is jurisdictional and reported in the EQR, a Canadian PORBA or PODBA would be reported in instances where provided by the contract.

65. In the case of sales from Canada, for purposes of EQR reporting we can likewise divide these sales into three categories: (1) Sales originating in Canada that are delivered within Canada; (2) sales originating in Canada where title changes on the Canadian side of the United States-Canada border; and (3) sales originating in Canada where title changes in the United States. In the first instance, the sale, which is not jurisdictional, would not be reported in the EQR. Likewise, sales in the second instance would not be jurisdictional and would not be reported in the EQR; however, if there is a subsequent resale that takes that power from the border into the United States, that resale would be reported with a PODBA within the United States. In the third instance, the sale would be reported using a United States' PODBA.

66. Powerex's comment also reveals a weakness in the proposed PODBA/PORBA definitions. As presented, the definitions focus on the list of acceptable entries without classifying what characterizes those entries. Field Nos. 39 and 41, for example, are defined identically in the EQR Notice, which provides:—“The registered NERC Balancing Authority (formerly called NERC Control Area) abbreviation used in OASIS applications or ‘Hub’ if point of receipt is at a restricted trading hub”—even though the former refers to a receipt point and the latter refers to a delivery point. We have changed the field definitions to address this issue. Thus, the EQR Data Dictionary that we are adopting in this order defines “PORBA” as “The registered NERC Balancing Authority (formerly called NERC Control Area) where service begins for a transmission or transmission-related jurisdictional sale. The Balancing Authority will be identified with the abbreviation used in OASIS applications. If receipt occurs at a trading hub specified in the EQR software, the term ‘Hub’ should be used.” In addition, the EQR Data Dictionary that we are adopting in this order defines “PODBA” as “The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term ‘Hub’ should be used.”

67. Regarding Powerex's more general comment requesting clarification on the steps filers should take if data needed to make an entry is not available, the Commission stated in Order No. 2001-E that it would use the list “kept current as part of the Transmission Service Information Network (TSIN) by the North American Electric Reliability Council (NERC)” as the source for the abbreviations in this field.²³ Commission staff reviews this list each quarter to identify any changes, additions and deletions. Changes to the list are implemented and filers notified using procedures authorized after Order No. 2001-E.²⁴ When the final EQR Data Dictionary is issued, any changes in the list will be posted in a revised Appendix B. If, for some reason, a TSIN-identified Balancing Authority where jurisdictional sales may occur is not included in the EQR software, interested parties may send an e-mail to EQR@ferc.gov to alert staff to the omission.

²³ Order No. 2001-E, 105 FERC ¶ 61,352 at P 4.

²⁴ See Revised Public Utility Filing Requirements, 106 FERC ¶ 61,281 (2004).

68. Regarding the specific Balancing Authority identified as “MISO” in Appendix B, MISO seeks to clarify that MISO is not yet a certified NERC balancing authority. MISO asks the Commission to indicate in Appendix B that this is an “administrative classification.”

69. The Commission recognizes that at present there are multiple balancing authorities with responsibilities within the Midwest ISO footprint. The Midwest ISO provides settlement and EQR reporting detail at the balancing authority level. When a sale occurs in one of the balancing authorities, the particular PODBA should be identified in the EQR. Nevertheless, TSIN.com, the OASIS registration Web site chosen by the Commission in Order No. 2001-E to determine balancing authorities, identifies “MISO” as a balancing authority. Further, there are certain system-wide products offered in MISO such as “Uplift” that cannot be linked to a single PODBA. Therefore, “MISO” will be included in the list of available balancing authorities for system-wide products.

N. Field Nos. 40 and 42—Point of Receipt Specific Location (PORSL) and Point of Delivery Specific Location (PODSL)

70. The EQR Notice proposed defining Point of Receipt Specific Location (PORSL) as “The specific location at which the product is received if designated in the contract. If receipt occurs at a trading hub, a standardized hub name must be used.” The EQR Notice proposed defining Point of Delivery Specific Location (PODSL) as “The specific location at which the product is delivered if designated in the contract. If receipt occurs at a trading hub, a standardized hub name must be used.”

71. EEI recommends that the Commission allow contracts with numerous Points of Receipt to be reported as “Various” for the Point of Receipt Specific Location. In its comments, EEI identifies two hubs in Appendix C that no longer exist, “AEP (into)” and “ComEd (into).” In addition, EEI suggests that the definition of the Palo Verde Hub in Appendix C be changed to include the Hassayampa switchyard 2 miles south of Palo Verde.

Commission Conclusion

72. EEI's suggestion to report Points of Receipt as “Various” would undermine the usefulness of this field by allowing various points defined in the contract to be described using the same nomenclature as points defined as “Various” in the contract. However, EEI's concern about fitting several distinct points within the limited space provided is well founded. To balance the limitations of this EQR field with the requirement for contract information to be provided, the definition has been changed to allow for a descriptive summary of the points listed in the contract.

73. As to EEI's suggestion that the “AEP (into)” and “ComEd (into)” hubs be removed from Appendix C, we agree that this is appropriate since these two hubs are no longer in operation. In addition, we will adopt EEI's suggestion to revise the definition of the Palo Verde Hub in Appendix C to include the Hassayampa switchyard 2 miles south of Palo Verde. This change is intended to make the definition consistent with Commission policy since 2001 treating Palo Verde and the Hassayampa switchyard as a common bus.²⁵

²⁵ Arizona Public Service Co., 96 FERC ¶ 61,156 (2001).

O. Field No. 46—Transaction Unique ID

74. The EQR Notice proposed defining Transaction Unique ID as “An identifier beginning with the letter ‘T’ and followed by a number (e.g., ‘T1’, ‘T2’) used to designate a record containing transaction information in a comma-delimited (csv) file that is imported into the EQR filing. One record for each transaction record may be imported into an EQR for a given quarter. A new transaction record must be used every time a price changes in a sale.”

75. Transalta requests that the Commission clarify that, for index priced deals only, a new unique ID is not required each time the price changes so long as each new price is reported. Transalta also seeks confirmation that a single transaction using a single Transaction Unique ID may contain multiple records.

Commission Conclusion

76. Transalta is correct that filers must enter a new record each time the price changes in a sale. Transalta is also correct in that a single transaction using a single Transaction Unique ID may contain multiple records. This is not a departure from definitions or guidance that the Commission has given in the past.

P. Field Nos. 53, 54 and 64—Transaction Begin Date, Transaction End Date and Price

77. The EQR Notice proposed defining Transaction Begin Date as “First date and time the product is sold during the quarter at the specified price.” The EQR Notice proposed defining Transaction End Date as “Last date and time the product is sold during the quarter at the specified price.” The EQR Notice proposed defining Price as “Price charged for the product per unit.”

78. EEI recommends changing the definition for the beginning and ending dates. This change makes the date entered unique to the transaction reported while eliminating the uniqueness of price.

Commission Conclusion

79. The Commission will adopt EEI's suggested revisions. The removal of the phrase “at the specified price” from the date fields should not be interpreted to mean that the Commission intends to allow aggregation of prices. To fulfill the Commission's FPA obligations, the prices reported must reflect the actual prices charged. Each price change will continue to require a new record to be reported. To ensure that this requirement is clear, the definition of “Price” has been changed to specify that the price reported cannot be averaged or otherwise aggregated.

Q. Field No. 61—Increment Peaking Name

80. The EQR Notice proposed defining Increment Peaking Name as “FP-Full Period: The product described may be sold during all hours under the contract. OP-Off-Peak: The product described may be sold only during those hours designated as off-peak in the NERC region of the point of delivery. P-Peak: The product described may be sold only during those hours designated as on-peak in the NERC region of the point of delivery. N/A-Not Applicable: To be used only when the other available increment peaking names do not apply.”

81. EEI suggests that the words “Peak” and “Off-Peak” be used in the definition of “FP-Full Period” instead of “all” to clarify that full period sales need not last 24 hours. EEI also suggests that the phrase “under the contract” be deleted to clarify that this field refers to Transaction Data. EEI further recommends changing the verb tense in all the Increment Peaking Name definitions to clarify that the transactions being reported occurred in the past.

Commission Conclusion

82. The Commission finds that EEI's suggestions—to use the words “Peak” and “Off-Peak” instead of “all” in the definition of “FP-Full Period”—add clarity and we will revise this definition accordingly. In addition, we will also adopt EEI's suggestion to change the verb tense in all the Increment Peaking Name definitions to clarify that the transactions being reported occurred in the past.

III. Implementation Issues

83. EEI requests that changes requiring additional programming be kept to a minimum and adequate time be provided to implement any changes. The proposed changes to the EQR are minimal. Over the past five years, Commission staff has given filing guidance based on Order No. 2001 and related issuances. Little in this order goes beyond or changes that guidance, so this order should raise minimal implementation concerns.

84. Nonetheless, to minimize any impact on filers, the Commission is making the EQR Data Dictionary we are adopting in this order effective for the first quarter of 2008, rather than immediately. This effective date provides companies until the April 30, 2008 filing deadline to make their internal filing processes compliant with the EQR Data Dictionary. The new date has the additional benefit of creating a consistent data set across the calendar year.

85. CVPS requests that the Commission consider a size threshold for implementing new definitions or, if new definitions are to be adopted for all, that implementation be phased-in to allow smaller companies additional time to comply. In other words, CVPS is requesting that smaller companies would make their EQR filings based on one set of definitions, while everyone else would make their EQR filings based on a different set of definitions.²⁶

²⁶ CVPS is not arguing here that small entities be excused from making EQR filings; rather, it is arguing that small entities be permitted to continue to make those filings under the Commission's prior guidance, without regard to the clarifications provided in the EQR Data Dictionary we are adopting in this order.

86. In Order No. 2001, the Commission indicated that it would “consider granting waivers in appropriate circumstances.” While several waivers have been issued, the Commission has found, over time, that the amount of effort to complete the EQR tends to correspond with the size of the company. Thus, small companies with few sales tend to have smaller EQRs and a correspondingly smaller filing burden. However, because the EQR is one of the foundations of the market-based rate program, the Commission has granted waivers sparingly and always in regard to a company's entire filing and not to particular parts of the filing.

87. The proportion of company size to filing size may not apply if the small entity sells to an RTO/ISO. A company making a single baseload energy sale into an ISO will have over 2,000 lines of transaction data during any given quarter. Three of the organized markets, NYISO, ISO-NE, and MISO, however, provide their participants data files intended to simplify the filing process.

88. The Commission will not waive compliance with the EQR Data Dictionary definitions for particular companies. It would be confusing and hinder the transparency provided by the EQR if some filers made their filings based on one set of definitions, while others made their filings based on another understanding of those terms. Moreover, it would undermine the purpose of adopting a standard set of definitions. The Commission will, however, entertain requests for extension of time to file Q1 2008 EQR filings in cases where companies' implementation of the Data Dictionary definitions is incomplete.

89. EEI's requests that the Commission clarify that the changes in filing requirements associated with the EQR Data Dictionary are prospective only and will not be applied to past filings. Of course, this is true. Nonetheless, the Commission will continue to expect that those companies that have been filing EQRs since 2002 comply with the then-effective filing requirements.

90. Finally, EEI notes that some ISO/RTOs have documented how they map their settlement billing elements to EQR products to generate their EQR-ready data files. EEI asks that the Commission review and endorse or correct these mappings.

91. The Commission is on record as endorsing this effort and encouraging Commission staff to work with the ISOs and their members to develop these maps so that the ISOs can provide EQR-ready data files to their members.²⁷ Commission staff has worked closely with the three ISOs that are providing this service as well as with the California Independent System Operator Corporation and PJM Interconnection, LLC, which have not yet competed these tasks. Commission staff has reviewed these maps for the ISOs and participated in long, detailed discussions at ISO Committee meetings to ensure their consistency with Commission policy.

²⁷ Order No. 2001-E, 105 FERC ¶ 61,352 at P 11.

92. Nonetheless, the task of the instant proceeding is to create an EQR Data Dictionary. It is not the appropriate forum in which to address the specific issue of ISO data mappings for EQR-ready reports. Our finding here is without prejudice to this matter subsequently being raised in another proceeding.

IV. Implementation Dates

93. This order will become effective upon publication in the Federal Register. The definitions adopted in this order shall be used in filing the Q1 2008 EQR due on April 30, 2008 and in subsequent filings of the EQR.

V. Document Availability

94. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

95. From the Commission's Home Page on the Internet, this information is available in the eLibrary. The full text of this document is available in the eLibrary both in PDF and Microsoft Word format for viewing, printing, and/or downloading. To access this document in eLibrary, type “RM01-8” in the docket number field. User assistance is available for eLibrary and the Commission's website during the Commission's normal business hours. For assistance contact the Commission's Online Support services at FERCOnlineSupport@ferc.gov or toll-free at (866) 208-3676, or for TTY, contact (202) 502-8659.

The Commission orders:

(A) The Commission hereby adopts the EQR Data Dictionary shown in the Attachment, as discussed in the body of this order.

(B) The definitions adopted in this order shall be applied to EQR filings beginning with the Q1 2008 EQR (due on April 30, 2008) and in subsequent EQR filings due thereafter.

By the Commission.
Kimberly D. Bose,
Secretary.

Attachment—Electric Quarterly Report Data Dictionary Version 1.0 (Issued September 24, 2007)

EQR Data Dictionary
Field No. | Field | Required | Value | Definition
ID DATA
1 | Filer Unique Identifier | ✓ | FR1 | (Respondent)—An identifier (i.e., “FR1”) used to designate a record containing Respondent identification information in a comma-delimited (csv) file that is imported into the EQR filing. Only one record with the FR1 identifier may be imported into an EQR for a given quarter.
1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | Filer Unique Identifier | ✓ | FA1 | (Agent)—An identifier (i.e., “FA1”) used to designate a record containing Agent identification information in a comma-delimited (csv) file that is imported into the EQR filing. Only one record with the FA1 identifier may be imported into an EQR for a given quarter.
2 | Company Name | ✓ | Unrestricted text (100 characters) | (Respondent)—The name of the company taking responsibility for complying with the Commission's regulations related to the EQR.
2 | Company Name | ✓ | Unrestricted text (100 characters) | (Seller)—The name of the company that is authorized to make sales as indicated in the company's FERC tariff(s). This name may be the same as the Company Name of the Respondent.
2 | Company Name | ✓ | Unrestricted text (100 characters) | (Agent)—The name of the entity completing the EQR filing. The Agent's Company Name need not be the name of the company under Commission jurisdiction.
3 | Company DUNS Number | For Respondent and Seller | Nine digit number | The unique nine digit number assigned by Dun and Bradstreet to the company identified in Field Number 2.
4 | Contact Name | ✓ | Unrestricted text (50 characters) | (Respondent)—Name of the person at the Respondent's company taking responsibility for compliance with the Commission's EQR regulations.
4 | Contact Name | ✓ | Unrestricted text (50 characters) | (Seller)—The name of the contact for the company authorized to make sales as indicated in the company's FERC tariff(s). This name may be the same as the Contact Name of the Respondent.
4 | Contact Name | ✓ | Unrestricted text (50 characters) | (Agent)—Name of the contact for the Agent, usually the person who prepares the filing.
5 | Contact Title | ✓ | Unrestricted text (50 characters) | Title of contact identified in Field Number 4.
6 | Contact Address | ✓ | Unrestricted text | Street address for contact identified in Field Number 4.
7 | Contact City | ✓ | Unrestricted text (30 characters) | City for the contact identified in Field Number 4.
8 | Contact State | ✓ | Unrestricted text (2 characters) | Two character state or province abbreviations for the contact identified in Field Number 4.
9 | Contact Zip | ✓ | Unrestricted text (10 characters) | Zip code for the contact identified in Field Number 4.
10 | Contact Country Name | ✓ | CA—Canada MX—Mexico US—United States UK—United Kingdom | Country (USA, Canada, Mexico, or United Kingdom) for contact address identified in Field Number 4.
11 | Contact Phone | ✓ | Unrestricted text (20 characters) | Phone number of contact identified in Field Number 4.
12 | Contact E-Mail | ✓ | Unrestricted text | E-mail address of contact identified in Field Number 4.
13 | Filing Quarter | ✓ | YYYYMM | A six digit reference number used by the EQR software to indicate the quarter and year of the filing for the purpose of importing data from csv files. The first 4 numbers represent the year (e.g., 2007). The last 2 numbers represent the last month of the quarter (e.g., 03=1st quarter; 06=2nd quarter, 09=3rd quarter, 12=4th quarter).
CONTRACT DATA
14 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | ✓ | Unrestricted text (100 characters) | The name of the company that is authorized to make sales as indicated in the company's FERC tariff(s). This name must match the name provided as a Seller's “Company Name” in Field Number 2 of the ID Data (Seller Data).
16 | Customer Company Name | ✓ | Unrestricted text (70 characters) | The name of the counterparty.
17 | Customer DUNS Number | ✓ | Nine digit number | The unique nine digit number assigned by Dun and Bradstreet to the company identified in Field Number 16.
18 | Contract Affiliate | ✓ | Y (Yes) N (No) | The customer is an affiliate if it controls, is controlled by or is under common control with the seller. This includes a division that operates as a functional unit. A customer of a seller who is an Exempt Wholesale Generator may be defined as an affiliate under the Public Utility Holding Company Act and the FPA.
19 | FERC Tariff Reference | ✓ | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
21 | Contract Execution Date | ✓ | YYYYMMDD | The date the contract was signed or materially amended. If the parties signed on different dates use the most recent date signed.
22 | Contract Commencement Date | ✓ | YYYYMMDD | The date the contract was effective. If it is not specified in the contract, the first date of service under the contract.
23 | Contract Termination Date | If specified in the contract | YYYYMMDD | The date that the contract expires.
24 | Actual Termination Date | If contract terminated | YYYYMMDD | The date the contract actually terminates.
25 | Extension Provision Description | ✓ | Unrestricted text | Description of terms that provide for the continuation of the contract.
26 | Class Name | ✓ |  | See definitions of each class name below.
26 | Class Name | ✓ | F—Firm | For transmission sales, a service or product that always has priority over non-firm service. For power sales, a service or product that is not interruptible for economic reasons.
26 | Class Name | ✓ | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
26 | Class Name | ✓ | UP—Unit Power Sale | Designates a dedicated sale of energy and capacity from one or more than one specified generation unit(s).
26 | Class Name | ✓ | N/A—Not Applicable | To be used only when the other available Class Names do not apply.
27 | Term Name | ✓ | LT-Long Term ST-Short Term N/A-Not Applicable | Contracts with durations of one year or greater are long-term. Contracts with shorter durations are short-term.
28 | Increment Name | ✓ |  | See definitions for each increment below.
|  |  | H-Hourly | Terms of the contract (if specifically noted in the contract) set for up to 6 consecutive hours (≤ 6 consecutive hours).
28 | Increment Name | ✓ | D-Daily | Terms of the contract (if specifically noted in the contract) set for more than 6 and up to 60 consecutive hours (>6 and ≤60 consecutive hours).
28 | Increment Name | ✓ | W—Weekly | Terms of the contract (if specifically noted in the contract) set for over 60 consecutive hours and up to 168 consecutive hours (>60 and ≤168 consecutive hours).
28 | Increment Name | ✓ | M—Monthly | Terms of the contract (if specifically noted in the contract) set for more than 168 consecutive hours up to one month (>168 consecutive hours and ≤1 month).
28 | Increment Name | ✓ | Y—Yearly | Terms of the contract (if specifically noted in the contract) set for one year or more (≥1 year).
28 | Increment Name | ✓ | N/A—Not Applicable | Terms of the contract do not specify an increment.
29 | Increment Peaking Name | ✓ |  | See definitions for each increment peaking name below.
29 | Increment Peaking Name | ✓ | FP—Full Period | The product described may be sold during those hours designated as on-peak and off-peak in the NERC region of the point of delivery.
29 | Increment Peaking Name | ✓ | OP—Off-Peak | The product described may be sold only during those hours designated as off-peak in the NERC region of the point of delivery.
29 | Increment Peaking Name | ✓ | P—Peak | The product described may be sold only during those hours designated as on-peak in the NERC region of the point of delivery.
29 | Increment Peaking Name | ✓ | N/A—Not Applicable | To be used only when the increment peaking name is not specified in the contract.
30 | Product Type Name | ✓ |  | See definitions for each product type below.
30 | Product Type Name | ✓ |  | CB—Cost Based Energy or capacity sold under a FERC-approved cost-based rate tariff.
30 | Product Type Name | ✓ | CR—Capacity Reassignment | An agreement under which a transmission provider sells, assigns or transfers all or portion of its rights to an eligible customer.
30 | Product Type Name | ✓ | MB—Market Based | Energy or capacity sold under the seller's FERC-approved market-based rate tariff.
30 | Product Type Name | ✓ | T—Transmission | The product is sold under a FERC-approved transmission tariff.
30 | Product Type Name | ✓ | Other | The product cannot be characterized by the other product type names.
31 | Product Name | ✓ | See Product Name Table, Appendix A | Description of product being offered.
32 | Quantity | If specified in the contract | Number with up to 4 decimals | Quantity for the contract product identified.
33 | Units | If specified in the contract | See Units Table, Appendix E | Measure stated in the contract for the product sold.
34 | Rate | One of four rate fields (34, 35, 36, or 37) must be included | Number with up to 4 decimals | The charge for the product per unit as stated in the contract.
35 | Rate Minimum | One of four rate fields (34, 35, 36, or 37) must be included | Number with up to 4 decimals | Minimum rate to be charged per the contract, if a range is specified.
36 | Rate Maximum | One of four rate fields (34, 35, 36, or 37) must be included | Number with up to 4 decimals | Maximum rate to be charged per the contract, if a range is specified.
37 | Rate Description | One of four rate fields (34, 35, 36, or 37) must be included | Unrestricted text | Text description of rate. Include algorithm if rate is calculated. If the algorithm would exceed the 150 character field limit, it may be provided in a descriptive summary (including bases and methods of calculations) with a detailed citation of the relevant FERC tariff including page number and section.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. ‘Various,’ alone, is unacceptable unless the contract itself uses that terminology.
41 | Point of Delivery Balancing Authority (PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | ✓ | See Time Zone Table, Appendix D | The time zone in which the sales will be made under the contract.
Transaction Data
46 | Transaction Unique ID | ✓ | An integer proceeded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
47 | Seller Company Name | ✓ | Unrestricted text (100 Characters) | The name of the company that is authorized to make sales as indicated in the company's FERC tariff(s). This name must match the name provided as a Seller's “Company Name” in Field 2 of the ID Data (Seller Data).
48 | Customer Company Name | ✓ | Unrestricted text (70 Characters) | The name of the counterparty.
49 | Customer DUNS Number | ✓ | Nine digit number | The unique nine digit number assigned by Dun and Bradstreet to the counterparty to the contract.
50 | FERC Tariff Reference | ✓ | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
51 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
52 | Transaction Unique Identifier | ✓ | Unrestricted text (24 Characters) | Unique reference number assigned by the seller for each transaction.
53 | Transaction Begin Date | ✓ | YYYYMMDDHHMM (csv import) MMDDYYYYHHMM (manual entry) | First date and time the product is sold during the quarter.
54 | Transaction End Date | ✓ | YYYYMMDDHHMM (csv import) MMDDYYYYHHMM (manual entry) | Last date and time the product is sold during the quarter.
55 | Time Zone | ✓ | See Time Zone Table, Appendix D | The time zone in which the sales will be made under the contract.
56 | Point of Delivery Balancing Authority (PODBA) | ✓ | See Balancing Authority Table, Appendix B | The registered NERC Balancing Authority (formerly called NERC Control Area) abbreviation used in OASIS applications.
57 | Point of Delivery Specific Location (PODSL) | ✓ | Unrestricted text (50 characters). If “HUB” is selected for PODBA, see Hub Table, Appendix C | The specific location at which the product is delivered. If receipt occurs at a trading hub, a standardized hub name must be used.
58 | Class Name | ✓ | — | See class name definitions below.
58 | Class Name | ✓ | F—Firm | A sale, service or product that is not interruptible for economic reasons.
58 | Class Name | ✓ | NF—Non-firm | A sale for which delivery or receipt of the energy may be interrupted for any reason or no reason, without liability on the part of either the buyer or seller.
58 | Class Name | ✓ | UP—Unit Power Sale | Designates a dedicated sale of energy and capacity from one or more than one specified generation unit(s).
58 | Class Name | ✓ | BA—Billing Adjustment | Designates an incremental material change to one or more transactions due to a change in settlement results. “BA” may be used in a refiling after the next quarter's filing is due to reflect the receipt of new information. It may not be used to correct an inaccurate filing.
58 | Class Name | ✓ | N/A—Not Applicable | To be used only when the other available class names do not apply.
59 | Term Name | ✓ | LT—Long Term ST—Short Term N/A—Not Applicable | Power sales transactions with durations of one year or greater are long-term. Transactions with shorter durations are short-term.
60 | Increment Name | ✓ | — | See increment name definitions below.
60 | Increment Name | ✓ | H—Hourly | Terms of the particular sale set for up to 6 consecutive hours (≤ 6 consecutive hours) Includes LMP based sales in ISO/RTO markets.
60 | Increment Name | ✓ | D—Daily | Terms of the particular sale set for more than 6 and up to 60 consecutive hours (>6 and ≤ 60 consecutive hours) Includes sales over a peak or off-peak block during a single day.
60 | Increment Name | ✓ | W—Weekly | Terms of the particular sale set for over 60 consecutive hours and up to 168 consecutive hours (>60 and ≤ 168 consecutive hours). Includes sales for a full week and sales for peak and off-peak blocks over a particular week.
60 | Increment Name | ✓ | M—Monthly | Terms of the particular sale set for set for more than 168 consecutive hours up to one month (>168 consecutive hours and ≤ 1 month). Includes sales for full month or multi-week sales during a given month.
60 | Increment Name | ✓ | Y—Yearly | Terms of the particular sale set for one year or more (≤ 1 year). Includes all long-term contracts with defined pricing terms (fixed-price, formula, or index).
60 | Increment Name | ✓ | N/A—Not Applicable | To be used only when other available increment names do not apply.
61 | Increment Peaking Name | ✓ | — | See definitions for increment peaking below.
61 | Increment Peaking Name | ✓ | FP—Full Period | The product described was sold during Peak and Off-Peak hours.
61 | Increment Peaking Name | ✓ | OP—Off-Peak | The product described was sold only during those hours designated as off-peak in the NERC region of the point of delivery.
61 | Increment Peaking Name | ✓ | P—Peak | The product described was sold only during those hours designated as on-peak in the NERC region of the point of delivery.
61 | Increment Peaking Name | ✓ | N/A—Not Applicable | To be used only when the other available increment peaking names do not apply.
62 | Product Name | ✓ | See Product Names Table, Appendix A | Description of product being offered.
63 | Transaction Quantity | ✓ | Number with up to 4 decimals | The quantity of the product in this transaction.
64 | Price | ✓ | Number with up to 6 decimals | Actual price charged for the product per unit. The price reported cannot be averaged or otherwise aggregated.
65 | Rate Units | ✓ | See Rate Units Table, Appendix F | Measure appropriate to the price of the product sold.
66 | Total Transmission Charge | ✓ | Number with up to 2 decimals | Payments received for transmission services when explicitly identified.
67 | Total Transaction Charge | ✓ | Number with up to 2 decimals | Transaction Quantity (Field 63) times Price (Field 64) plus Total Transmission Charge (Field 66).

EQR Data Dictionary—Appendix A. Product Names
Product name | Contract product | Transaction product | Definition
BLACK START SERVICE | ✓ | ✓ | Service available after a system-wide blackout where a generator participates in system restoration activities without the availability of an outside electric supply (Ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation.
EXCHANGE | ✓ | ✓ | Transaction whereby the receiver accepts delivery of energy for a supplier's account and returns energy at times, rates, and in amounts as mutually agreed if the receiver is not an RTO/ISO.
FUEL CHARGE | ✓ | ✓ | Charge based on the cost or amount of fuel used for generation.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓ | The loss of energy, resulting from transporting power over a transmission system.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service).
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service).
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service).
SYSTEM OPERATING AGREEMENTS | ✓ |  | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

EQR Data Dictionary—Appendix B. Balancing Authority
Balancing authority | Abbreviation | Outside U.S.*
AESC, LLC—Wheatland CIN | AEWC |
Alabama Electric Cooperative, Inc | AEC |
Alberta Electric System Operator | AESO | ✓
Alliant Energy Corporate Services, LLC—East | ALTE |
Alliant Energy Corporate Services, LLC—West | ALTW |
Ameren Transmission | AMRN |
Ameren Transmission. Illinois | AMIL |
Ameren Transmission. Missouri | AMMO |
American Transmission Systems, Inc | FE |
Aquila Networks—Kansas | WPEK |
Aquila Networks—Missouri Public Service | MPS |
Aquila Networks—West Plains Dispatch | WPEC |
Arizona Public Service Company | AZPS |
Associated Electric Cooperative, Inc | AECI |
Avista Corp | AVA |
Batesville Balancing Authority | BBA |
Big Rivers Electric Corp | BREC |
Board of Public Utilities | KACY |
Bonneville Power Administration Transmission | BPAT |
British Columbia Transmission Corporation | BCTC | ✓
California Independent System Operator | CISO |
Carolina Power & Light Company—CPLW | CPLW |
Carolina Power and Light Company—East | CPLE |
Central and Southwest | CSWS |
Central Illinois Light Co | CILC |
Chelan County PUD | CHPD |
Cinergy Corporation | CIN |
City of Homestead | HST |
City of Independence P&L Dept | INDN |
City of Tallahassee | TAL |
City Water Light & Power | CWLP |
Cleco Power LLC | CLEC |
Columbia Water & Light | CWLD |
Comision Federal de Electricidad | CFE | ✓
Constellation Energy Control and Dispatch—Arkansas | PUPP |
Constellation Energy Control and Dispatch—City of Benton, AR | BUBA |
Constellation Energy Control and Dispatch—City of Ruston, LA | DERS |
Constellation Energy Control and Dispatch—Conway, Arkansas | CNWY |
Constellation Energy Control and Dispatch—Gila River | GRMA |
Constellation Energy Control and Dispatch—Harquehala | HGMA |
Constellation Energy Control and Dispatch—North Little Rock, Arkansas | DENL |
Constellation Energy Control and Dispatch—West Memphis, Arkansas | WMUC |
Dairyland Power Cooperative | DPC |
DECA, LLC—Arlington Valley | DEAA |
Duke Energy Corporation | DUK |
East Kentucky Power Cooperative, Inc | EKPC |
El Paso Electric | EPE |
Electric Energy, Inc | EEI |
Empire District Electric Co., The | EDE |
Entergy | EES |
ERCOT ISO | ERCO |
Florida Municipal Power Pool | FMPP |
Florida Power & Light | FPL |
Florida Power Corporation | FPC |
Gainesville Regional Utilities | GVL |
Georgia System Operations Corporation | GSOC |
Georgia Transmission Corporation | GTC |
Grand River Dam Authority | GRDA |
Grant County PUD No. 2 | GCPD |
Great River Energy | GRE |
Great River Energy | GREC |
Great River Energy | GREN |
Great River Energy | GRES |
GridAmerica | GA |
Hoosier Energy | HE |
Hydro-Quebec, TransEnergie | HQT | ✓
Idaho Power Company | IPCO |
Illinois Power Co | IP |
Illinois Power Co | IPRV |
Imperial Irrigation District | IID |
Indianapolis Power & Light Company | IPL |
ISO New England Inc | ISNE |
JEA | JEA |
Kansas City Power & Light, Co | KCPL |
Lafayette Utilities System | LAFA |
LG&E Energy Transmission Services | LGEE |
Lincoln Electric System | LES |
Los Angeles Department of Water and Power | LDWP |
Louisiana Energy & Power Authority | LEPA |
Louisiana Generating, LLC | LAGN |
Madison Gas and Electric Company | MGE |
Manitoba Hydro Electric Board, Transmission Services | MHEB | ✓
Michigan Electric Coordinated System | MECS |
Michigan Electric Coordinated System—CONS | CONS |
Michigan Electric Coordinated System—DECO | DECO |
MidAmerican Energy Company | MEC |
Midwest ISO | MISO |
Minnesota Power, Inc | MP |
Montana-Dakota Utilities Co | MDU |
Muscatine Power and Water | MPW |
Nebraska Public Power District | NPPD |
Nevada Power Company | NEVP |
New Brunswick Power Corporation | NBPC | ✓
New Horizons Electric Cooperative | NHC1 |
New York Independent System Operator | NYIS |
North American Electric Reliability Council | TEST |
Northern Indiana Public Service Company | NIPS |
Northern States Power Company | NSP |
NorthWestern Energy | NWMT |
Ohio Valley Electric Corporation | OVEC |
Oklahoma Gas and Electric | OKGE |
Ontario—Independent Electricity Market Operator | IMO | ✓
OPPD CA/TP | OPPD |
Otter Tail Power Company | OTP |
P.U.D. No. 1 of Douglas County | DOPD |
PacifiCorp—East | PACE |
PacifiCorp—West | PACW |
PJM Interconnection | PJM |
Portland General Electric | PGE |
Public Service Company of Colorado | PSCO |
Public Service Company of New Mexico | PNM |
Puget Sound Energy Transmission | PSEI |
Reedy Creek Improvement District | RC |
Sacramento Municipal Utility District | SMUD |
Salt River Project | SRP |
Santee Cooper | SC |
SaskPower Grid Control Centre | SPC | ✓
Seattle City Light | SCL |
Seminole Electric Cooperative | SEC |
Sierra Pacific Power Co.—Transmission | SPPC |
South Carolina Electric & Gas Company | SCEG |
South Mississippi Electric Power Association | SME |
South Mississippi Electric Power Association | SMEE |
Southeastern Power Administration—Hartwell | SEHA |
Southeastern Power Administration—Russell | SERU |
Southeastern Power Administration—Thurmond | SETH |
Southern Company Services, Inc | SOCO |
Southern Illinois Power Cooperative | SIPC |
Southern Indiana Gas & Electric Co | SIGE |
Southern Minnesota Municipal Power Agency | SMP |
Southwest Power Pool | SWPP |
Southwestern Power Administration | SPA |
Southwestern Public Service Company | SPS |
Sunflower Electric Power Corporation | SECI |
Tacoma Power | TPWR |
Tampa Electric Company | TEC |
Tennessee Valley Authority ESO | TVA |
Trading Hub | HUB |
TRANSLink Management Company | TLKN |
Tucson Electric Power Company | TEPC |
Turlock Irrigation District | TIDC |
Upper Peninsula Power Co | UPPC |
Utilities Commission, City of New Smyrna Beach | NSB |
Westar Energy—MoPEP Cities | MOWR |
Western Area Power Administration—Colorado-Missouri | WACM |
Western Area Power Administration—Lower Colorado | WALC |
Western Area Power Administration—Upper Great Plains East | WAUE |
Western Area Power Administration—Upper Great Plains West | WAUW |
Western Farmers Electric Cooperative | WFEC |
Western Resources dba Westar Energy | WR |
Wisconsin Energy Corporation | WEC |
Wisconsin Public Service Corporation | WPS |
Yadkin, Inc | YAD |
* Balancing authorities outside the United States may only be used in the Contract Data section to identify specified receipt/delivery points in jurisdictional transmission contracts.

EQR Data Dictonary.—Appendix C. Hub
HUB | Definition
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) nodes defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) nodes defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) nodes defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) nodes defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) nodes defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary—Appendix D. Time Zone
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

EQR Data Dictionary—Appendix E. Units
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

EQR Data Dictionary—Appendix F. Rate Units
Rate units | Definition
$/KV | Dollars per kilovolt.
$/KVA | Dollars per kilovolt amperes.
$/KVR | Dollars per kilovar.
$/KW | Dollars per kilowatt.
$/KWH | Dollars per kilowatt hour.
$/KW-DAY | Dollars per kilowatt day.
$/KW-MO | Dollars per kilowatt month.
$/KW-WK | Dollars per kilowatt week.
$/KW-YR | Dollars per kilowatt year.
$/MW | Dollars per megawatt.
$/MWH | Dollars per megawatt hour.
$/MW-DAY | Dollars per megawatt day.
$/MW-MO | Dollars per megawatt month.
$/MW-WK | Dollars per megawatt week.
$/MW-YR | Dollars per megawatt year.
$/MVAR-YR | Dollars per megavar year.
$/RKVA | Dollars per reactive kilovar amperes.
CENTS | Cents.
CENTS/KVR | Cents per kilovolt amperes.
CENTS/KWH | Cents per kilowatt hour.
FLAT RATE | Rate not specified in any other units.

[FR Doc. E7-19484 Filed 10-3-07; 8:45 am]

BILLING CODE 6717-01-P